DEPARTMENT OF ENERGY

Federal Energy Regulatory Commission

Combined Notice of Filings #1

Take notice that the Commission received the following exempt wholesale generator filings:

Docket Numbers: EG21-6-000.

Applicants: Harts Mill TE Holdings LLC.

Description: Notice of Self-Certification as an Exempt Wholesale Generator of Harts Mill TE Holdings LLC.

Filed Date: 10/14/20.

Accession Number: 20201014-5006.

Comments Due: 5 p.m. ET 11/4/20.

Take notice that the Commission received the following electric rate filings:

Docket Numbers: ER20-17-003.

Applicants: Tenaska Pennsylvania Partners, LLC.

Description: Report Filing: Refund Report—Informational Filing to be effective N/A.

Filed Date: 10/14/20.

Accession Number: 20201014-5055.

Comments Due: 5 p.m. ET 11/4/20.

Docket Numbers: ER20-2453-001.

Applicants: Hamilton Patriot LLC.

Description: Compliance filing: Amendment to Notice of Succession to be effective 7/18/2020.

Filed Date: 10/14/20.

Accession Number: 20201014-5064.

Comments Due: 5 p.m. ET 11/4/20.

Docket Numbers: ER21-98-000.

Applicants: Baltimore Gas and Electric Company, PJM Interconnection, L.L.C.

Description: § 205(d) Rate Filing: BGE submits Revisions to PJM Tariff, H-2A re: Depreciation filing re: ER20-1929 to be effective 11/1/2020.

Filed Date: 10/13/20.

Accession Number: 20201013-5346.

Comments Due: 5 p.m. ET 11/3/20.

Docket Numbers: ER21-99-000.

Applicants: DesertLink, LLC.

Description: Compliance filing: Annual TRBAA Filing to be effective 1/1/2021.

Filed Date: 10/14/20.

Accession Number: 20201014-5034.

Comments Due: 5 p.m. ET 11/4/20.

Docket Numbers: ER21-100-000.

Applicants: Gulf Power Company.

Description: § 205(d) Rate Filing: Facility Construction Agreement for Affected System Project to be effective 10/7/2020.

Filed Date: 10/14/20.

Accession Number: 20201014-5075.

Comments Due: 5 p.m. ET 11/4/20.

Docket Numbers: ER21-101-000.

Applicants: California Independent System Operator Corporation.

Description: § 205(d) Rate Filing: 2020-10-14 EIM Entity Agreement—Los Angeles Dept of Water and Power—LADWP to be effective 1/20/2021.

Filed Date: 10/14/20.

Accession Number: 20201014-5088.

Comments Due: 5 p.m. ET 11/4/20.

Docket Numbers: ER21-102-000.

Applicants: Southwest Power Pool, Inc.

Description: § 205(d) Rate Filing: Generator Retirement Process Tariff Revisions to be effective 1/1/2021.

Filed Date: 10/14/20.

Accession Number: 20201014-5091.

Comments Due: 5 p.m. ET 11/4/20.

Docket Numbers: ER21-103-000.

Applicants: Horizon Power and Light LLC.

Description: Baseline eTariff Filing: Horizon Power and Light, LLC Updated Market-Based Rate Tariff to be effective 12/13/2020.

Filed Date: 10/14/20.

Accession Number: 20201014-5093.

Comments Due: 5 p.m. ET 11/4/20.

Docket Numbers: ER21-104-000.

Applicants: Basin Electric Power Cooperative, Southwest Power Pool, Inc.

Description: § 205(d) Rate Filing: Basin Electric Power Cooperative Formula Rate to be effective 1/1/2020.

Filed Date: 10/14/20.

Accession Number: 20201014-5109.

Comments Due: 5 p.m. ET 11/4/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 14, 2020.
Nathaniel J. Davis, Sr.,
Deputy Secretary.

[FR Doc. 2020-23200 Filed 10-19-20; 8:45 am]

BILLING CODE 6717-01-P